DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than November 15, 2005.

ADDRESSES: Submit written comments on any or all of the following proposed activities by mail to either: Mr. Robert Brogan, Office of Safety, Planning and Evaluation Division, RRS-21, Federal Railroad Administration, 1120 Vermont Ave., NW., Mail Stop 17, Washington, DC 20590, or Mr. Victor Angelo, Office of Support Systems, RAD-20, Federal Railroad Administration, 1120 Vermont Ave., NW., Mail Stop 35, Washington, DC 20590. Commenters requesting FRA to acknowledge receipt of their respective comments must include a self-addressed stamped postcard stating, “Comments on OMB control number 2130-0505, or OMB control number 2130-0548, or OMB control number 2130-0556.” Alternatively, comments may be transmitted via facsimile to (202) 493-6265 or (202) 493-6170, or e-mail to Mr. Brogan at robert.brogan@fra.dot.gov, or to Mr. Victor Angelo at victor.angelo@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Victor Angelo, Office of Support Systems, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Inspection and Maintenance Standards for Steam Locomotives.

OMB Control Number: 2130-0505.

Abstract: The Locomotive Boiler Inspection Act (LBIA) of 1911 required each railroad subject to the Act to file copies of its rules and instructions for the inspection of locomotives. The original LBIA was expanded to cover the entire steam locomotive and tender and all its parts and appurtenances. This Act then requires carriers to make inspections and to repair defects to ensure the safe operation of steam locomotives. The collection of information is used by tourist or historic railroads and by locomotive owners/operators to provide a record for each day a steam locomotive is placed in service, as well as a record that the required steam locomotive inspections are completed. The collection of information is also used by FRA Federal inspectors to verify that necessary safety inspections and tests have been completed and to ensure that steam locomotives are indeed “safe and suitable” for service and are properly operated and maintained.

Affected Public: Businesses.

Respondent Universe: 82 owners/operators.

Frequency of Submission: On occasion; annually.

Reporting Burden:

CFR section | Respondent universe | Total annual responses | Average time per response | Total annual burden hours | Total annual burden cost
230.6—Waivers | 82 owners | 2 waiver letters | 1 hour | 2 | 68
230.12—Conditions for movement—Non-Complying Locomotives | 82 owners/operators | 10 tags | 6 minutes | 1 | 30
230.14—31 Service Day Inspection | 82 owners/operators | 100 reports | 20 minutes | 33 | 990
—Notifications | 82 owners/operators | 2 notifications | 5 minutes | .17 | 6
230.15—92 Service Day Inspection | 82 owners/operators | 100 reports | 20 minutes | 33 | 990
230.16—Annual Inspection | 82 owners/operators | 100 reports | 30 minutes | 50 | 1,500
—Notifications | 82 owners/operators | 100 notifications | 5 minutes | 8 | 272
230.17—1,472 Service Day Inspection | 82 owners/operators | 10 forms | 30 minutes | 5 | 150
230.20—Alteration Reports for Steam Locomotive Boilers | 82 owners/operators | 5 reports | 1 | 5 | 150
230.21—Steam Locomotive Number Change | 82 owners/operators | 1 document | 2 minutes | .033 | 1
230.33—Welded Repairs/Alterations | 82 owners/operators | 5 letters | 10 minutes | 1 | 34
—Written Request to FRA for Approval— | 82 owners/operators | 5 letters | 10 minutes | 1 | 34
Unstayed Surfaces
230.34—Riveted Repairs/Alterations | 82 owners/operators | 10 requests | 5 minutes | 1 | 34
230.49—Setting of Safety Relief Valves | 82 owners/operators | 38 tags | 2 minutes | 1.25 | 38
230.96—Main, Side, and Valve Motion Rods | 82 owners/operators | 1 letter | 10 minutes | .17 | 5
Recordkeeping Requirements
230.13—Daily Inspection Reports | 82 owners/operators | 3,650 reports | 2 minutes | 122 | 3,660
230.17—1,472 Service Day Inspection | 82 owners/operators | 10 reports | 15 minutes | 3 | 90
230.18—Service Day Report | 82 owners/operators | 150 reports | 15 minutes | 38 | 1,140
230.19—Posting of Copy | 82 owners/operators | 300 forms | 1 minute | 5 | 15
230.41—Flexible Stay Bolts with Caps | 82 owners/operators | 10 entries | 1 minute | .17 | 5
230.46—Badge Plates | 82 owners/operators | 3 reports | 30 minutes | 2 | 60
230.47—Boiler Number | 82 owners/operators | 1 report | 15 minutes | .25 | 8
230.75—Stenciling Dates of Tests and Cleaning | 82 owners/operators | 50 tests | 15 minute | 1 | 30
230.98—Driving, Trailing, and Engine Truck Axles—Journal Diameter Stamped | 82 owners/operators | 1 stamp | 15 minutes | .25 | 8
230.116—Oil Tanks | 82 owners/operators | 10 signs | 1 minute | .17 | 5

Total Responses: 4,674.

Estimated Total Annual Burden: 314 .

Status: Extension of a Currently Approved Collection.

Title: Railroad Rehabilitation and Improvement Financing Program.

OMB Control Number: 2130-0548.

Abstract: Prior to the enactment of the Transportation Equity Act for the 21st Century (“TEA 21”), Title V of the Railroad Revitalization and Regulatory Reform Act of 1976 (the “Act”), 45 U.S.C. 821 et seq., authorized FRA to provide railroad financial assistance through the purchase of preference shares (45 U.S.C. 825), and the issuance of loan guarantees (45 U.S.C. 831). The FRA regulations implementing the preference share program were eliminated on February 9, 1996, due to the fact that the authorization for the program expired (28 FR 4937). The FRA regulations implementing the loan guarantee provisions of Title V of the Act are contained in 49 CFR part 260. Section 7203 of TEA 21, Public Law 105-178 (June 9, 1998), replaces the existing Title V financing programs. The collection of information is used by FRA staff to determine the financial eligibility of applicants for a loan or loan guarantee regarding eligible projects for the improvement/rehabilitation of rail equipment or facilities, the refinancing of outstanding debt for these purposes, or the development of new intermodal or railroad facilities. The aggregate unpaid principal amounts of obligations can not exceed $3.5 billion at any one time and not less than $1 billion is to be available solely for projects benefitting freight railroads other than Class I carriers.

Affected Public: State and local governments, governments sponsored authorities and corporations, railroads (including Amtrak), and joint ventures that include at least one railroad.

Respondent Universe: 21,956 potential applicants.

Frequency of Submission: Annual.

Reporting Burden:

CFR section | Respondent universe | Total annual responses | Average (hours) time per response | Total annual burden hours | Total annual burden cost
260.23—Form and content of application generally | 21,956 potential applicants | 20 applications | 20 | 400 | $16,036
260.25—Additional information for applicants without credit ratings | 555 applicants | 18 financial document pkgs | 40 | 720 | 27,936
260.31—Execution and filing of application: |  |  |  |  |
—Certificate of President | 21,956 pot. applicants | 20 certificates | .6 | 12 | 526
—Certificate of Chief Financial Officer | 21,956 pot. applicants | 20 certificates | .6 | 12 | 519
—Transmittal letter | 21,956 pot. applicants | 20 letters | .6 | 12 | 519
—Copy/mail app. pkg. | 21,956 pot. applicants | 20 app. pkgs | 1.5 | 30 | 912
260.33—Information Request | 21,956 pot. applicants | 20 statements | 1 | 20 | 851
260.35—Environmental Assessment | 21,956 pot. applicants | 1 envir. Doc | 4,475 | 4,475 | 537,000
260.43—Inspection and Reporting | 21,956 pot. applicants | 20 Docs | 10 | 200 | 8,510

Total Responses: 159.

Estimated Total Annual Burden: 5,881 hours.

Status: Extension of a Currently Approved Collection.

Title: U.S. Locational Requirement for Dispatching U.S. Rail Operations.

OMB Control Number: 2130-0556.

Abstract: Part 241 requires, in the absence of a waiver, that all dispatching of railroad operations that occurs in the United States be performed in this country, with a minor exception. A railroad is allowed to conduct extraterritorial dispatching from Mexico or Canada in emergency situations, but only for the duration of the emergency. A railroad relying on the exception must provide written notification of its action to the FRA Regional Administrator of each FRA region in which the railroad operation occurs; such notification is not required before addressing the emergency situation. The information collected under this rule will be used as part of FRA's oversight function to ensure that extraterritorial dispatchers comply with applicable safety regulations.

Affected Public: Railroads.

Respondent Universe: 4 Railroads.

Frequency of Submission: On Occasion.

Reporting Burden:

CFR section | Respondent universe | Total annual responses | Average time per response | Total annual burden hours | Total annual burden cost
241.7—Waivers—(a) General | 4 railroads | 1 waiver petition | 4 hours | 4 hours | $1.57.
(b) Special Dispensation—Extraterritorial Dispatching | 4 railroads | 4 waiver petitions | 4 hours | 16 hours | $628.
(c) Fringe Border Dispatching | 4 railroads | 2 waiver petitions | 4 hours | 8 hours | $314.
241.9—Prohibition against extraterritorial dispatching, exceptions—Notification | 4 railroads | 1 notification | 8 hours | 8 hours | $314.
241.11—Prohibition against conducting a railroad operation dispatched by an extraterritorial dispatcher; exceptions | 4 railroads | Included under § 241.9 | Included under § 241.9 | Included under § 241.9 | Included under § 241.9.
241.13—Prohibitions against track owner's requiring or permitting use of its line for a railroad operation dispatched by an extraterritorial dispatcher; exceptions | 4 railroads | Included under § 241.9 | Included under § 241.9 | Included under § 241.9 | Included under § 241.9.
241.15—Penalties—False Reports/Records | $628 | None | N/A | N/A | N/A.

Total Responses: 8.

Estimated Total Annual Burden: 36 hours.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on September 13, 2005.
D.J. Stadtler,
Director, Office of Budget, Federal Railroad Administration.

[FR Doc. 05-18487 Filed 9-15-05; 8:45 am]

BILLING CODE 4910-06-P